DEPARTMENT OF THE INTERIOR

Bureau of Land Management

[LLCAD0900, L51010000.LVRWB09B2380.FX0000; CACA-048669]

Notice of Segregation of Public Lands for the Proposed Stateline Solar Farm, CA

AGENCY: Bureau of Land Management, Interior.

ACTION: Notice.

SUMMARY: This notice serves to segregate the identified public lands located in the State of California for 2 years from appropriation pursuant to public land laws, including location pursuant to the General Mining Act, but not the Mineral Leasing Act or the Materials Act of 1947. The segregation is needed to continue processing the proposed Stateline Solar Energy right-of-way (ROW) application and provide for the orderly administration of public lands and avoid conflicts between renewable energy generation and mining claims. The public land contained in this segregation totals 6,223.25 acres.

DATES: This segregation is effective on September 24, 2013.

FOR FURTHER INFORMATION CONTACT: Greg Miller, Project Manager; Telephone: 951-697-5216; Address: BLM California Desert District Office, 22835 Calle San Juan de Los Lagos, Moreno Valley, CA 92553-9046, or email: gmiller@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Desert Stateline, LLC, submitted a ROW application to construct, operate, maintain and decommission a solar energy project on a portion of its ROW-application area. The BLM is segregating the following described public lands (6,223.25 acres in San Bernardino County, California) subject to valid existing rights:

San Bernardino Meridian,

T. 16 N., R. 14 E.,

Sec. 1, W½ lot 1 in NW¼, W½ lot 2 in NW¼, and W½SW¼;

Sec. 2, Lot 1 in NE¼, excluding that portion of the parcel shown on the Exhibit “A” map accompanying the legal description of the Ivanpah-3 BLM right-of-way lease/grant CACA-49504, dated October 7, 2010, on file at the BLM field office in Needles, CA., Lot 2 in NE¼, excluding that portion of the parcel shown on the Exhibit “A” map accompanying the legal description of the Ivanpah-3 BLM right- of-way lease/grant CACA-49504, dated October 7, 2010, on file at the BLM field office in Needles, CA., Lot 2 in NW¼, excluding that portion of the parcel shown on the Exhibit “A” map accompanying the legal description of the Ivanpah-3 BLM right-of-way lease/grant CACA-49504, dated October 7, 2010, on file at the BLM field office in Needles, CA., SE¼, excluding that portion of the parcel shown on the Exhibit “A” map accompanying the legal description of the Ivanpah-3 BLM right-of-way lease/grant CACA-49504, dated October 7, 2010, on file at the BLM field office in Needles, CA.;

Sec. 3, lot 1;

Sec. 11, N½ NE¼, excluding that portion of the parcel shown on the Exhibit “A” map accompanying the legal description of the Ivanpah-3 BLM right-of-way lease/grant CACA-49504, dated October 7, 2010, on file at the BLM field office in Needles, CA.;

Sec. 12, W½NW¼NW¼.

T. 17 N., R. 14 E.,

Sec. 13, W½ and SE¼;

Sec. 14;

Sec. 15;

Sec. 22, excluding that portion of the parcel shown on the Exhibit “A” map accompanying the legal description of the Ivanpah-3 BLM right-of-way lease/grant CACA-49503, dated October 7, 2010, on file at the BLM field office in Needles, CA.;

Sec. 23;

Sec. 24, N½, SW¼, NW¼NE¼SE¼, and W½SE¼;

Sec. 25;

Sec. 26;

Sec. 34, SE¼;SE¼;

Sec. 35.

The area described aggregates 6,223.25 acres, more or less, in San Bernardino County.

In order to process the ROW application filed on the lands described above and to maintain the status quo, the BLM originally published a notice in the Federal Register on August 4, 2011 (76 FR 47235) to segregate the lands described above for a period of 2 years, which expired on August 4, 2013. The BLM has determined that an additional segregation of the public lands identified above is needed for the orderly administration of public lands while the BLM considers a revised proposal for the project area. The BLM is segregating the lands under the authority contained in 43 CFR2091.3-1(e) and 43 CFR 2804.25(e), which permits a segregation period of 2 years, subject to valid existing rights, not to exceed a total period of 4 years. This additional 2-year segregation period is consistent with the applicable regulations and will commence on September 24, 2013. As explained below, this additional segregation cannot be extended. The public lands involved in this closure will be segregated from appropriation under the public land and mining laws, but not the mineral leasing or material sale laws.

The segregation period will terminate and the lands will automatically reopen to appropriation under the public land laws, including the mining laws, if one of the following events occurs: (1) The authorized officer issues a decision granting, granting with modifications, or denying the application for a ROW; (2) The BLM publishes a Federal Register notice terminating the segregation; or (3) The BLM takes no further administrative action at the end of the segregation provided for in the Federal Register notice initiating the segregation, whichever occurs first. Since the lands identified above have already been segregated for an initial 2-year period in connection with the Desert Stateline, LLC's application, the BLM will not be able to extend this segregation for an additional period after the expiration of this 2-year segregation period.

Upon termination or expiration of the segregation of these lands, all lands subject to this segregation will automatically reopen to appropriation under the public land laws, including the United States mining laws.

Authority: 43 CFR parts 2800 and 2090.

Thomas Pogacnik,
Deputy State Director, Natural Resources.

[FR Doc. 2013-23154 Filed 9-23-13; 8:45 am]

BILLING CODE 4310-40-P